SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before October 3, 2005.

ADDRESSES: Send all comments regarding whether this information collection is necessary for the proper performance of the function of the agency, whether the burden estimates are accurate, and if there are ways to minimize the estimated burden and enhance the quality of the collection, to David J. Caulfield, Senior Program Analyst, Office of HUBZone Empowerment Contracting, Small Business Administration, 409 3rd Street, SW., Suite 8800, Washington, DC 20416.

FOR FURTHER INFORMATION CONTACT: David J. Caulfield, Senior Program Analyst, 202-205-6457 david.caulfield@sba.gov. Curtis B. Rich, Management Analyst, 202-205-7030 curtis.rich@sba.sba.

SUPPLEMENTARY INFORMATION: Title: “HUBZone Empowerment Internet Application Form''.

Description of Respondents: Small Business Seeking Certification.

Form No: 2103.

Annual Responses: 10,000.

Annual Burden: 10,000.

Jacqueline White,
Chief, Administrative Information Branch.

[FR Doc. 05-15456 Filed 8-3-05; 8:45 am]

BILLING CODE 8025-01-P